SUSQUEHANNA RIVER BASIN COMMISSION

Actions Taken at June 17, 2021, Meeting

AGENCY: Susquehanna River Basin Commission.

ACTION: Notice.

SUMMARY: As part of its regular business meeting held on June 17, 2021, from Harrisburg, Pennsylvania, the Commission approved the applications of certain water resources projects, and took additional actions, as set forth in the Supplementary Information below.

DATES: June 17, 2021.

ADDRESSES: Susquehanna River Basin Commission, 4423 N. Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Election of Commission officers for FY2022; (2) reconciliation of the budget for FY2022; (3) ratification of two grant amendments; (4) adoption of a newly revised Comprehensive Plan for the Water Resources of the Susquehanna River Basin for 2021 through 2041; (5) adoption of the 2022-2024 Water Resources Program; and (4) Adoption of a Resolution regarding Environmental Justice.

Project Applications Approved

1. Project Sponsor and Facility: ARD Operating, LLC (West Branch Susquehanna River), Piatt Township, Lycoming County, Pa. Modification to update flow protection rates to be in accordance with current Low Flow Protection Policy No. 2012-01 (Docket No. 20120601).

2. Project Sponsor: CAN DO, Inc. Project Facility: Humbolt Industrial Park, Hazle Township, Luzerne County, Pa. Applications for renewal of groundwater withdrawals (30-day averages) of up to 0.187 mgd from Humbolt Well 1, up to 0.187 mgd from Humbolt Well 3, up to 0.230 mgd from Humbolt Well 7, up to 0.144 mgd from Humbolt Well 8, and up to 0.230 mgd from Humbolt Well 9 (Docket No. 19960501).

3. Project Sponsor and Facility: Geneva Farm Golf Course, Inc., Dublin District, Harford County, Md. Application for renewal of consumptive use of up to 0.099 mgd (30-day average) (Docket No. 199110104).

4. Project Sponsor and Facility: Greenfield Township Municipal Authority, Greenfield Township, Blair County, Pa. Application for groundwater withdrawal of up to 0.499 mgd (30-day average) from Well PW-4.

5. Project Sponsor and Facility: PPG Operations LLC (West Branch Susquehanna River), Goshen Township, Clearfield County, Pa. Application for surface water withdrawal of up to 3.000 mgd (peak day).

6. Project Sponsor and Facility: Quarryville Borough Authority, Quarryville Borough, Lancaster County, Pa. Application for renewal of groundwater withdrawal of up to 0.250 mgd (30-day average) from Well 2 (Docket No. 19931102).

7. Project Sponsor and Facility: SUEZ Water Owego-Nichols Inc., Village of Owego and Town of Owego, Tioga County, N.Y. Applications for groundwater withdrawals (30-day averages) of up to 0.880 mgd from Well 1, up to 1.115 mgd from Well 3, and up to 0.710 mgd from Well 4.

8. Project Sponsor: Weaverland Valley Authority. Project Facility: Blue Ball Water System, East Earl Township, Lancaster County, Pa. Application for groundwater withdrawal of up to 0.144 mgd (30-day average) from Well 4 as well as recognizing historic withdrawals from wells 1, 2 and 3.

Commission-Initiated Project Approval Modifications

9. Project Sponsor and Facility: Municipal Authority of the Borough of Mansfield, Richmond Township, Tioga County, Pa. Conforming the grandfathered amount with the forthcoming determination for a withdrawal from Webster Reservoir up to 0.311 mgd (30-day average) (Docket No. 20130609).

10. Project Sponsor and Facility: Williamsport Municipal Water Authority, Williamsport City, Lycoming County, Pa. Conforming the grandfathered amounts with the forthcoming determination for withdrawals (30-day averages) from Well 3 up to 0.940 mgd, from Well 4 up to 0.940 mgd, from Well 5 up to 2.141 mgd, from Well 6 up to 0.687 mgd, from Well 7 up to 2.254 mgd, from Well 8 up to 0.987 mgd, from Well 9 up to 0.800 mgd, from Mosquito Creek up to 6.833 mgd, and from Hagermans Run up to 4.926 mgd (Docket No. 20110628).

Project Approval Tabled

11. Project Sponsor and Facility: Pennsylvania State University, College Township, Centre County, Pa. Applications for renewal of groundwater withdrawal of up to 0.960 mgd (30-day average) from Well UN-37 and consumptive use of up to 0.960 mgd (peak day) (Docket No. 19890106-1).

Project Withdrawn

12. Project Sponsor and Facility: Beech Resources, LLC (Lycoming Creek), Lycoming Township, Lycoming County, Pa. Application for surface water withdrawal of up to 1.500 mgd (peak day).

Project Terminated

13. Project Sponsor and Facility: City of Aberdeen, Harford County, Md. Modifications to extend the approval term of the consumptive use, surface water withdrawal, and out-of-basin diversion approval (Docket No. 20021210) to allow additional time for evaluation of the continued use of the source for the Aberdeen Proving Ground-Aberdeen Area.

(Authority: Pub. L. 91-575, 84 Stat. 1509 et seq., 18 CFR parts 806, 807, and 808.)

Dated: June 24, 2021.
Jason E. Oyler,
General Counsel and Secretary to the Commission.

[FR Doc. 2021-13829 Filed 6-28-21; 8:45 am]

BILLING CODE 7040-01-P